DEPARTMENT OF HEALTH AND HUMAN SERVICES

National Institutes of Health

Proposed Collection: Comment Request; 0MB No. 0925-0601/exp. 2/28/2010, “Request for Human Embryonic Stem Cell Line To Be Approved for Use in NIH Funded Research”

SUMMARY: In compliance with the requirement of Section 3506(c)(2)(A) of the Paperwork Reduction Act of 1995, for opportunity for public comment on proposed data collection projects, the Office of Extramural Research, the National Institutes of Health (NIH) will publish periodic summaries of proposed projects to be submitted to the Office of Management and Budget (0MB) for review and approval.

Proposed Collection: Title: Request for Human Embryonic Stem Cell Line to be Approved for Use in NIH Funded Research. Type of Information Collection Request: Extension, 0MB 0925-0601, Expiration Date 2/28/2010. Form Number: 2890. The form is used by applicants to request that human embryonic stem cell lines be approved for use in NIH funded research. Applicants may submit applications at any time; this request is a one-time submission. Affected Public: Business or other for-profit; Not-for-profit institutions; Federal Government; and State, Local or Tribal Government. Type of Respondents: Adult scientific professionals. The annual reporting burden is as follows:

Estimated Number of Respondents: 100; Estimated Number of Responses per Respondent: 1; Average Burden Hours Per Response: 3; and Estimated Total Annual Burden Hours Requested: 300. The estimated annualized cost to respondents is $10,500.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Ms. Mikia Currie, Division of Grants Policy, Office of Policy for Extramural Research Administration, NIH, Rockledge 1 Building, Room 3505, 6705 Rockledge Drive, Bethesda, MD 20892-7974, or call non-toll-free number 301-435-0941, or E-mail your request, including your address to: [curriem@od.nih.gov].

Comments Due Date: Comments regarding this information collection are best assured of having their full effect if received within 60-days of the date of this publication.

Dated: September 17, 2009.
Joe Ellis,
Director, OPERA, OER, National Institutes of Health.

[FR Doc. E9-23078 Filed 9-24-09; 8:45 am]

BILLING CODE 4140-10-M